DEPARTMENT OF AGRICULTURE

Animal and Plant Health Inspection Service

[Docket No. APHIS-2025-0407]

Notice of Request for Revision to and Extension of Approval of an Information Collection; Animal Welfare

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the Animal Welfare Act regulations for the humane handling, care, treatment, and transportation of certain animals by dealers, exhibitors, operators of auction sales, research facilities, carriers and intermediate handlers.

DATES: We will consider all comments that we receive on or before March 9, 2026.

ADDRESSES: You may submit comments by either of the following methods:

• Federal eRulemaking Portal: Go to http://www.regulations.gov. Enter APHIS-2025-0407 in the Search field. Select the Documents tab, then select the Comment button in the list of documents.

• Postal Mail/Commercial Delivery: Please send one copy of your comment to Docket No. APHIS-2025-0407, Regulatory Analysis and Development, PPD, APHIS, 5601 Sunnyside Ave., #AP760, Beltsville, MD 20705.

Supporting documents and any comments we receive on this docket may be viewed at www.regulations.gov or in our reading room, which is in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Animal Welfare Act contact Ms. SaMonia Ford, APHIS, Animal Care, 2150 Centre Avenue, Building B, 3W11, Fort Collins, CO 80526, 970-494-7478, AC.PublicComment@usda.gov. For more information on the information collection reporting process, contact Ms. Sheniqua Harris, APHIS' Paperwork Reduction Act Coordinator, at (301) 851-2528 or email: APHIS.PRA@usda.gov.

SUPPLEMENTARY INFORMATION:

Title: Animal Welfare.

OMB Control Number: 0579-0036.

Type of Request: Revision to and extension of approval of an information collection.

Abstract: Under the Animal Welfare Act (AWA, 7 U.S.C. 2131 et seq.), the Animal and Plant Health Inspection Service (APHIS) of the U.S. Department of Agriculture is authorized, among other things, to ensure the humane treatment of animals covered by the Animal Welfare Act, provide national leadership on the safety and well-being of pets and other animals during disasters, and to promulgate standards and other requirements governing the humane handling, care, treatment, and transportation of certain animals by dealers, exhibitors, operators of auction sales, research facilities, carriers and intermediate handlers. The Secretary has delegated responsibility for administering the AWA to the U.S. Department of Agriculture's Animal and Plant Health Inspection Service (APHIS), Animal Care.

Definitions, regulations, and standards established under the AWA are contained in 9 CFR parts 1, 2, and 3 (referred to below as the regulations). Part 1 contains definitions for terms used in parts 2 and 3. Part 2 provides administrative requirements and sets forth institutional responsibilities for regulated parties, including licensing requirements for dealers, exhibitors, and operators of auction sales. Part 3 provides standards for humane handling, care, treatment, and transportation of covered animals, and consists of subparts which contain specific standards for animals covered under the AWA.

Administering the AWA requires the use of several information collection activities such as license applications, registration applications and updates; annual reports; acknowledgement of regulations and standards; inspections; requests; notifications; plans; written program of veterinary care and health records; itineraries; applications and permits; records of acquisition, disposition, or transport of animals; official identification; variances; protocols; health certificates; complaints; marking requirements; and recordkeeping.

These information collection activity requirements include activities merged in from information collection 0579-0486; Animal Care; Standards for Birds Not Bred for Use in Research Under the Animal Welfare Act.

The information collection requirements above represent Office of Management and Budget (OMB) Control Number 0579-0036, Animal Welfare, and OMB Control Number 0579-0486, Animal Care; Standards for Birds Not Bred for Use in Research Under the Animal Welfare Act. Once OMB approves this combined information collection package (0579-0036), APHIS will retire OMB Control Number 0579-0486.

We are asking the OMB to approve our use of these information collection activities for an additional 3 years. APHIS has amended this collection in the following ways:

• APHIS included the activities under 9 CFR 2.31, 2.33, 2.35, 2.36 and 2.40 with merging the activities from information collection and OMB Control Number 0579-0486, Animal Care; Standards for Birds Not Bred for Use in Research Under the Animal Welfare Act.

• With the merging of information collection 0579-0486 the number of respondents and responses have increased.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.232 hours per response.

Respondents: Individuals or households; businesses or other for-profit entities; not-for-profit institutions; farms; State, local, or tribal government officials; and foreign government officials.

Estimated annual number of respondents: 52,735.

Estimated annual number of responses per respondent: 18.

Estimated annual number of responses: 972,781.

Estimated total annual burden on respondents: 225,730 hours. (Due to averaging, the total annual burden hours may not equal the product of the annual number of responses multiplied by the reporting burden per response.)

All responses to this notice will be summarized and included in the request for OMB approval. All comments will also become a matter of public record.

Done in Washington, DC, this 6th day of January 2026.
Michael Watson,
Administrator, Animal and Plant Health Inspection Service.

[FR Doc. 2026-00200 Filed 1-7-26; 8:45 am]

BILLING CODE 3410-34-P